DEFENSE NUCLEAR FACILITIES SAFETY BOARD

Notice of Public Hearing

AGENCY: Defense Nuclear Facilities Safety Board.

ACTION: Notice of public hearing.

SUMMARY: Notice is hereby given that the Defense Nuclear Facilities Safety Board (DNFSB) will hold a Public Hearing regarding legacy cleanup activities, nuclear safety, and increased production activities at Los Alamos National Laboratory (LANL). The purpose of this Public Hearing is to gather information on activities and plans of the Department of Energy's Office of Environmental Management (EM) and the National Nuclear Security Administration (NNSA).

DATES: The Public Hearing will be held on November 16, 2022, from 12:00 p.m. to 9:45 p.m.

ADDRESSES: The Public Hearing will be held at the Santa Fe Community Convention Center, 201 West Mercy Street, Sante Fe, New Mexico 87501.

FOR FURTHER INFORMATION CONTACT: Tara Tadlock, Associate Director for Board Operations, Defense Nuclear Facilities Safety Board, 625 Indiana Avenue NW, Suite 700, Washington, DC 20004-2901, (800) 788-4016. This is a toll-free number.

SUPPLEMENTARY INFORMATION: This Public Hearing will be composed of two parts. The first portion of the hearing will take place on Wednesday, November 16, 2022, from 12:00 p.m. to 2:30 p.m., and will be focused on the activities performed by EM at the LANL Area G transuranic waste management facility. DNFSB's objective is to understand actions completed and planned to strengthen Area G's safety basis and plans to remove legacy transuranic waste while minimizing the amount above ground. Board Members will hear testimony from the Manager of the EM Los Alamos Field Office, the President of N3B Los Alamos, and the Program Manager for N3B Los Alamos.

During the second portion of the Public Hearing, from 4:00 p.m. to 8:30 p.m., Board Members will gather information on (1) the production activities to be conducted in the Plutonium Facility, (2) the nuclear safety risks NNSA has accepted, and (3) the state of planned safety improvements to safety system infrastructure and safety programs. The second portion of the hearing will first focus on the NNSA's national security missions and nuclear safety posture, followed by a focus on improving safety systems, safety management programs, and oversight. Board Members will hear testimony from the NNSA Administrator, the Manager of the NNSA Los Alamos Field Office, the Director of Triad National Security, LLC, and the Deputy Laboratory Director, Weapons, for Triad National Security, LLC. Board Members will also hear remarks from DNFSB's Technical Director.

Following the portion focused on NNSA, the Board Members will hear comments from interested members of the public from 8:45 p.m. to 9:45 p.m. Persons interested in speaking during the public comment portion of the Public Hearing are encouraged to pre-register by submitting a request in writing to the Office of General Counsel at 625 Indiana Avenue NW, Suite 700, Washington, DC 20004, emailing hearing@dnfsb.gov, or calling (202) 694-7062 or (800) 788-4016 prior to close of business on November 11, 2022. DNFSB asks that commenters describe the nature and scope of their oral presentations. Those who pre-register will be scheduled to speak first. Individual oral comments may be limited by the time available, depending on the number of persons who register.

At the beginning of the hearing, a list of speakers will be posted at the entrance to the hearing room. Anyone who wishes to comment or provide technical information or data may do so in writing, either in lieu of, or in addition to, making an oral presentation. The Board Members may question presenters to the extent deemed appropriate. Written comments and documents will be accepted at the hearing or may be sent to DNFSB's Washington, DC office. DNFSB will hold the hearing record open until December 16, 2022, for the receipt of additional materials. Additional details, including the detailed agenda for the hearing, are available at https://www.dnfsb.gov.

The hearing will be presented live through internet video streaming. A link to the presentation will be available on DNFSB's website, and a recording will be posted soon after. A transcript of these sessions and the associated correspondence will be made available on the DNFSB's website. DNFSB specifically reserves its right to further schedule and otherwise regulate the course of the hearing, to recess, reconvene, postpone, or adjourn the hearing, conduct further reviews, and otherwise exercise its authority under the Atomic Energy Act of 1954, as amended.

Authority: 42 U.S.C. 2286b(a).

Dated: August 11, 2022.
Joyce Connery,
Chair.

[FR Doc. 2022-17792 Filed 8-17-22; 8:45 am]

BILLING CODE 3670-01-P